DEPARTMENT OF COMMERCE

International Trade Administration

[A-122-853, A-570-937, C-570-938]

Citric Acid and Certain Citrate Salts From Canada and the People's Republic of China: Continuation of the Antidumping Duty Orders on Canada and the People's Republic of China, and Continuation of the Countervailing Duty Order on the People's Republic of China

AGENCY: Enforcement and Compliance, International Trade Administration, Department of Commerce.

SUMMARY: The Department of Commerce (the Department) determined that revocation of the antidumping duty (AD) orders on citric acid and certain citrate salts (citric acid) from Canada and the People's Republic of China (PRC) would likely lead to a continuation or recurrence of dumping, and that revocation of the countervailing duty (CVD) order on citric acid from the PRC would likely to lead to continuation or recurrence of net countervailable subsides. The International Trade Commission (ITC) also determined that revocation of these AD and CVD orders would likely lead to continuation or recurrence of material injury to an industry in the United States. Therefore, the Department is publishing this notice of continuation of these AD and CVD orders.

DATES: Effective Date: June 24, 2015.

FOR FURTHER INFORMATION CONTACT: Katherine Johnson (Canada AD Order), AD/CVD Operations, Office II; Krisha Hill (PRC AD Order), AD/CVD Operations, Office IV; or Elizabeth Eastwood (PRC CVD Order), AD/CVD Operations, Office II, Enforcement and Compliance, International Trade Administration, U.S. Department of Commerce, 14th Street and Constitution Avenue NW., Washington, DC 20230; telephone: (202) 482-4929, (202) 482-4037, or (202) 482-3874, respectively.

SUPPLEMENTARY INFORMATION:

Background

On April 1, 2014, the Department initiated ¹ and the ITC instituted ² five-year (sunset) reviews of the AD orders on citric acid from Canada and the PRC, and the CVD order on citric acid from the PRC, pursuant to sections 751(c) and 752 of the Tariff Act of 1930, as amended (the Act). As a result of its reviews, the Department determined that revocation of the AD orders on citric acid from Canada and the PRC would likely lead to a continuation or recurrence of dumping, and that revocation of the CVD order on citric acid from the PRC would likely lead to continuation or recurrence of net countervailable subsidies. Therefore, the Department notified the ITC of the magnitude of the margins of dumping and the subsidy rates likely to prevail should the orders be revoked, pursuant to sections 752(b) and (c) of the Act.³

¹ See Initiation of Five-Year (“Sunset”) Review, 79 FR 18279 (April 1, 2014).

² See Citric Acid and Certain Citrate Salts from Canada and China; Institution of Five-Year Reviews, 79 FR 18311 (April 1, 2014).

³ See Citric Acid and Certain Citrate Salts From Canada and the People's Republic of China: Final Results of Expedited First Sunset Reviews of the Antidumping Duty Orders, 79 FR 45763 (August 6, 2014); and Citric Acid and Certain Citrate Salts from the People's Republic of China: Final Results of Expedited First Sunset Review of the Countervailing Duty Order, 79 FR 45761 (August 6, 2014).

On June 17, 2015, the ITC published its determinations, pursuant to sections 751(c)(1) and 752(a) of the Act, that revocation of the AD orders on citric acid from Canada and the PRC, and the CVD order on citric acid from the PRC would likely lead to continuation or recurrence of material injury to an industry in the United States within a reasonably foreseeable time.⁴

⁴ See Citric Acid and Certain Citrate Salts from Canada and China; Determination, 80 FR 34693 (June 17, 2015).

Scope of the Orders

The scope of the orders include all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of the orders also include all forms of crude calcium citrate, including dicalcium citrate monohydrate, and tricalcium citrate tetrahydrate, which are intermediate products in the production of citric acid, sodium citrate, and potassium citrate. The scope of the orders do not include calcium citrate that satisfies the standards set forth in the United States Pharmacopeia and has been mixed with a functional excipient, such as dextrose or starch, where the excipient constitutes at least 2 percent, by weight, of the product. The scope of the orders include the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, our written description of the scope is dispositive.

Continuation of the Orders

As a result of the determinations by the Department and the ITC that revocation of these AD and CVD orders would likely lead to a continuation or recurrence of dumping or countervailable subsidies, and material injury to an industry in the United States, pursuant to sections 751(c) and 751(d)(2) of the Act, the Department hereby orders the continuation of the AD orders on citric acid from Canada and the PRC and the CVD order on citric acid from the PRC. U.S. Customs and Border Protection (CBP) will continue to collect AD and CVD cash deposits at the rates in effect at the time of entry for all imports of subject merchandise.

The effective date of the continuation of these orders will be the date of publication in the Federal Register of this notice of continuation. Pursuant to section 751(c)(2) of the Act, the Department intends to initiate the next five-year review of these orders not later than 30 days prior to the fifth anniversary of the effective date of continuation.

These five-year (sunset) reviews and this notice are in accordance with section 751(c) of the Act and published pursuant to 777(i) the Act and 19 CFR 351.218(f)(4).

Dated: June 17, 2015.
Paul Piquado,
Assistant Secretary for Enforcement and Compliance.

[FR Doc. 2015-15399 Filed 6-23-15; 8:45 am]

BILLING CODE 3510-DS-P